DEPARTMENT OF DEFENSE

Department of the Army, Corps of Engineers

Draft Programmatic Environmental Impact Statement for the Nationwide Permit Program

AGENCY: Army Corps of Engineers, DoD.

ACTION: Extension of comment period.

SUMMARY: In the July 31, 2001, issue of the Federal Register (66 FR 39499) the Corps of Engineers (Corps) announced the availability of the draft Programmatic Environmental Impact Statement (PEIS) for the Nationwide Permit (NWP) Program. The overall purpose of the draft PEIS is to review and evaluate the NWP program as a whole to ensure that the NWP program authorizes only activities with no more than minimal individual and cumulative adverse effects on the aquatic environment. We have received several requests to extend the comment period, which ends September 14, 2001. To ensure ample opportunity to review the draft PEIS and to provide meaningful comments, we are extending the comment period 45 days to October 29, 2001. We have submitted a copy of the draft PEIS to EPA's Office of Federal Activities which is also publishing a Notice of Availability in September 14, 2001 Federal Register.

DATES: Comments on the draft PEIS must be received by October 29, 2001.

ADDRESSES: Mail comments to the U.S. Army Corps of Engineers, Institute for Water Resources, CEIWR-PD, 7701 Telegraph Road, Casey Building, Alexandria, Virginia 22315-3868. Submit electronic comments to NWPPEIS@usace.army.mil. See SUPPLEMENTARY INFORMATION for file formats and other information about filing electronic comments.

FOR FURTHER INFORMATION CONTACT: Dr. Robert Brumbaugh, CEIWR-PD, at 703-428-6370 or to download a copy of the draft PEIS access http://www.iwr.usace.army.mil/iwr/Regulatory/regulintro.htm or for information on the Corps Regulatory program access http://www.usace.army.mil/inet/functions/cw/cecwo/reg/

SUPPLEMENTARY INFORMATION: The Corps has decided to prepare a voluntary PEIS on the Corps NWP Program, even though the Corps has determined that it is not legally required to do so. The PEIS will evaluate the NWP process (requirements and procedures) and examine and compare programmatic and procedural alternatives to the NWP Program. To accomplish this, the PEIS will look at the structure, implementation, and performance (in terms of achieving the stated goals) of the NWP Program as a whole. It will identify, evaluate, and compare programmatic alternatives and procedural changes to ensure that the adverse environmental effects of activities authorized by NWPs will be no more than minimal, individually and cumulatively. The PEIS will also examine how the procedures have been implemented in the Corps field offices to ensure that the adverse environmental effects of activities authorized by NWPs will be no more than minimal, individually and cumulatively. The PEIS will address the NWP Program and will not address the impacts of any specific NWP(s) (neither the existing NWPs nor the Corps current proposed reissuance of NWPs). The Corps of Engineers prepared an Environmental Assessment on the NWP Program that resulted in the issuance of a FONSI on June 23, 1998. There is no change in the proposal or the environmental aspect of the proposal examined in the EA; therefore, the Corps has determined that it is not required to prepare an EIS or a PEIS in order to comply with the National Environmental Policy Act (NEPA). The FONSI is available for review on the Corps Regulatory Program webpage http://www.usace.army.mil/inet/functions/cw/cecwo/reg/. The NWP Program is designed and implemented to ensure that the NWPs do not reach the threshold of environmental impacts that would require that an EIS be prepared. The Corps prepares an Environmental Assessment (EA) on each specific NWP when the Corps issues or reissues that NWP. These EAs are prepared at the Office of the Chief of Engineers, and are supplemented by the Division Engineers with regional information on potential environmental impacts, including adding regional conditions where necessary to ensure that the impacts of each NWP are minimal both individually and cumulatively.

As indicated above, the Corps has determined that the PEIS is not a legally required Environmental Impact Statement. The Corps is preparing the voluntary PEIS in accordance with Corps regulations at 33 CFR part 325, appendix B, and with CEQ regulations at 40 CFR parts 1500-1508. The Corps had hoped to complete the PEIS prior to the reissuance of the NWPs that were proposed on August 9, 2001, in the Federal Register at 66 FR 42070, even though the Corps has determined that completing the voluntary PEIS prior to reissuance is not legally required. However, with the extension of the comment period the Corps will not be able to complete the PEIS before the NWPs will need to be issued in order to ensure that the existing NWPs do not expire without new NWPs to take their place. The CEQ regulations at 40 CFR 1506.1(c) do not prohibit the Corps from issuing the NWPs prior to completing the voluntary PEIS, because the Corps has determined that the PEIS is not a required PEIS. We will thus be in full compliance with NEPA for the reissuance of the NWPs through preparation of an EA on each NWP prior to issuance. Moreover, the issuance of the NWPs by the end of this year will not preclude or limit the ability of the Corps to make modifications to the NWP Program or to make changes to the NWPs in accordance with any need for changes identified in the PEIS. The Corps can, and has in the past, issued revisions to existing NWPs and new NWPs prior to the expiration of NWPs five years from the date of issuance. The Corps has submitted this voluntary draft PEIS to EPA's Office of Federal Affairs (OFA) for review. In accordance with procedures specified in NEPA regulations, OFA is publishing in September 14, 2001, Federal Register a Notice of Availability of the draft PEIS for public review through October 29, 2001. In The draft PEIS can be downloaded from the Institute for Water Resources homepage at http://www.iwr.usace.army.mil/iwr/Regulatory/regulintro.htm For those interested parties who cannot download documents from the Internet, a limited number of copies of the draft PEIS can be obtained by contacting the Institute for Water Resources at the address or telephone number above. You may submit comments by sending electronic mail (e-mail) to: NWPPEIS@usace.army.mil Submit electronic comments as a text file and avoid the use of any special characters; do not use any form of encryption. Comments sent as attachments to electronic mail messages must be in text format to ensure that those attachments can be read by IWR. Comments sent electronically as attachments in word processing program formats will not be accepted.

Charles M. Hess,
Chief, Operations Division, Directorate of Civil Works.

[FR Doc. 01-22919 Filed 9-11-01; 8:45 am]

BILLING CODE 3710-92-P